PENSION BENEFIT GUARANTY CORPORATION

Agency Information Collection Activities: Submission of Information Collection for OMB Review; Comment Request; Generic Clearance for the Collection of Qualitative Feedback on Agency Service Delivery

AGENCY: Pension Benefit Guaranty Corporation.

ACTION: Notice of request for extension of OMB approval.

SUMMARY: This collection of information was developed as part of a Federal Government-wide effort to streamline the process for seeking feedback from the public on service delivery. Pension Benefit Guaranty Corporation (“PBGC”) is requesting that the Office of Management and Budget (OMB) extend approval under the Paperwork Reduction Act of this collection of information on qualitative feedback on PBGC's service delivery (OMB Control Number 1212-0066; expires June 30, 2014).

DATES: Comments must be submitted July 28, 2014.

ADDRESSES: Comments should be sent to the Office of Information and Regulatory Affairs, Office of Management and Budget, Attention: Desk Officer for Pension Benefit Guaranty Corporation, via electronic mail at OIRA_DOCKET@omb.eop.gov or by fax to (202) 395-6974.

A copy of the request (including the collection of information) is posted at http://www.pbgc.gov/res/laws-andregulations/information-collections under-omb-review.html. It may also be obtained without charge by writing to the Disclosure Division of the Office of the General Counsel of PBGC at the above address, visiting the Disclosure Division, faxing a request to 202-326-4042, or calling 202-326-4040 during normal business hours. (TTY and TDD users may call the Federal relay service toll-free at 1-800-877-8339 and ask to be connected to 202-326-4040.) The Disclosure Division will email, fax, or mail the request to you, as you request.

FOR FURTHER INFORMATION CONTACT: Jo Amato Burns, Attorney (326-4400, ext. 3072) or Catherine B. Klion, Assistant General Counsel (326-4400, ext. 3041), Office of the General Counsel, Pension Benefit Guaranty Corporation, 1200 K Street NW., Washington, DC 20005, 202-326-4400 (TTY and TDD users may call the Federal relay service toll-free at 1-800-877-8339 and ask to be connected to 202-326-4400.)

SUPPLEMENTARY INFORMATION:

Title: Generic Clearance for the Collection of Qualitative Feedback on Agency Service Delivery.

Abstract: The information collection activity will gather qualitative customer and stakeholder feedback in an efficient, timely manner, in accordance with the Administration's commitment to improving service delivery. By qualitative feedback PBGC means information that provides useful insights on perceptions and opinions, but the information requests are not statistical surveys that yield quantitative results generalizable to the population of interest. This feedback will provide insights into customer or stakeholder perceptions, experiences and expectations, provide an early warning of issues with service, or focus attention on areas where communication, training or changes in operations might improve delivery of products or services. These collections will allow for ongoing, collaborative and actionable communications between PBGC and its customers and stakeholders. These collections also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address:

• The target population to which generalizations will be made,

• the sampling frame,

• the sample design (including stratification and clustering),

• the precision requirements or power calculations that justify the proposed sample size,

• the expected response rate,

• methods for assessing potential non-response bias,

• the protocols for data collection, and

• any testing procedures that were or will be undertaken prior fielding the study.

Depending on the degree of influence the results are likely to have, such collections may still be eligible for submission for other generic mechanisms that are designed to yield quantitative results.

PBGC is requesting that OMB extend approval the information collection for another three years without change. An agency may not conduct or sponsor, and a person is not required to respond to, a collection of information unless it displays a currently valid OMB control number.

Current Action: Extension of approval for a collection of information (OMB Control Number 1212-0066; expires June 30, 2014).

Type of Review: Regular.

Affected Public: Individuals and households.

Estimated Annual Number of Respondents: 1180.

Below are projected average annual estimates for the next three years:

Average Expected Annual Number of Activities: Three.

Average Number of Respondents per Activity (varies by activity):

• Usability Testing: 40.

• Focus Group: 90 (nine groups of ten respondents).

• Customer Satisfaction Survey: 1050.

Frequency of Response: Once per request.

Annual Responses: 1180 (based on one response per respondent).

Average Time per Response (varies by activity):

• Two hours per response for Usability Testing and Focus Groups;

• 15 minutes for Customer Satisfaction Survey.

Burden Hours (varies by activity):

• Usability Testing, 80 hours.

• Focus Group, 180 hours.

• Customer Satisfaction Survey, 263 hours.

Total: 523 hours.

Issued in Washington, DC, this 24 day of June 2014.
Judith Starr,
General Counsel, Pension Benefit Guaranty Corporation.

[FR Doc. 2014-15096 Filed 6-26-14; 8:45 am]

BILLING CODE 7709-02-P